DEPARTMENT OF ENERGY

Federal Energy Regulatory Commission

[Project No. 14577-000]

Telluride Energy, LLC; Notice of Preliminary Permit Application Accepted for Filing and Soliciting Comments, Motions To Intervene, and Competing Applications

On January 15, 2014, Telluride Energy, LLC filed an application for a preliminary permit, pursuant to section 4(f) of the Federal Power Act, proposing to study the feasibility of the Hidden Dam Hydroelectric Project (Hidden Dam Project or project) at the U.S. Army Corps of Engineers' (Corps) Lake Hensley and Hidden dam on the Fresno River, near the city of Madera in Madera County, California. The sole purpose of a preliminary permit, if issued, is to grant the permit holder priority to file a license application during the permit term. A preliminary permit does not authorize the permit holder to perform any land-disturbing activities or otherwise enter upon lands or waters owned by others without the owners' express permission.

The proposed project would consist of the following: (1) A new penstock that would take water from the existing Hensley Lake; (2) a new powerhouse at the base of the existing Hidden dam containing a 2.48-megawatt turbine-generator; (3) a new estimated 0.25-mile-long primary transmission line connecting the project to Pacific Gas and Electric Company's transmission lines west of the project; and; (4) appurtenant facilities. The proposed project would have an estimated average annual generation of 9,350 megawatt-hours and operate utilizing releases from Lake Hensley, as directed by the Corps.

Applicant Contact: Mr. Kurt Johnson, Telluride Energy, LLC, 100 West Colorado, Suite 222, P.O. Box 1646, Telluride, CO 81435; phone: (970) 729-5051.

FERC Contact: Shana Murray; phone: (202) 502-8333.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14577) in the docket number field to access the document. For assistance, contact FERC Online Support.

Dated: May 1, 2014.
Kimberly D. Bose,
Secretary.

[FR Doc. 2014-10610 Filed 5-8-14; 8:45 am]

BILLING CODE 6717-01-P